DEPARTMENT OF COMMERCE

National Oceanic and Atmospheric Administration

RIN 0648-XV69

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its Pelagics Plan Team (PPT) in Honolulu, HI to discuss fishery issues and develop recommendations for future management.

DATES: The meeting of the PPT will be held on April 29-30, 2010, from 8:30 a.m. to 5 p.m. each day.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The PPT will meet between April 29-30, 2010 at the Council Conference Room to discuss the following agenda items:

Thursday, April 29, 2010, 8:30 a.m.

1. Introduction

2. Annual Report review

a. Review 2009 Annual Report modules and recommendations

i. CNMI

ii. American Samoa

iii. Guam

iv. Hawaii

v. International

vi. Recreational

b. 2009 Annual Report region wide recommendations

Friday, April 30, 2010, 8.30 a.m.

3. Summary of current FMP amendment actions

4. Western & Central Pacific Fishery Commission requirements for operational-level catch and effort data

5. Catch and bycatch effects of large circle hooks in a tuna longline fishery

6. False Killer Whale Take Reduction Team

7. Annual Catch Limit Ecosystem Components Species for Pelagics Fishery Ecosystem Plan

8. Longline fishery meeting

9. Other business

10. Public comments

11. Pelagic Plan Team Recommendations

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council(s intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 5, 2010.
Tracey L. Thompson,
Acting Director, Office of Sustainable Fisheries, National Marine Fisheries Service.

[FR Doc. 2010-7994 Filed 4-7-10; 8:45 am]

BILLING CODE 3510-22-S